DEPARTMENT OF THE INTERIOR

National Park Service

Chesapeake and Ohio Canal National Historical Park Advisory Commission; Notice of Public Meeting

Notice is hereby given in accordance with the Federal Advisory Committee Act that a meeting of the Chesapeake and Ohio Canal National Historical Park Advisory Commission will be held at 10 a.m. on Friday, April 4, 2003, at park headquarters, 1850 Dual Highway, Suite 100, Hagerstown, Maryland.

The Commission was established by Public Law 91-664 to meet and consult with the Secretary of the Interior on general policies and specific matters related to the administration and development of the Chesapeake and Ohio Canal National Historical Park.

The members of the Commission are as follows: Mrs. Sheila Rabb Weidenfeld, Chairman, Mr. Charles J. Weir, Mr. Barry A. Passett, Mr. Terry W. Hepburn, Ms. Elise B. Heinz, Ms. JoAnn M. Spevacek, Mrs. Mary E. Woodward, Mrs. Donna Printz, Mr. Rockwood H. Foster, Mrs. Ferial S. Bishop, Ms. Nancy C. Long, Mrs. Jo Reynolds, Dr. James H. Gilford, Mrs. Sue Ann Sullivan, Brother James Kirkpatrick.

Topics that will be presented during the meeting include:

1. Status of the draft Land Protection Plan.

2. Major construction/development projects.

3. Historic Leasing Program.

4. Duke Power Company right-of-way easement application.

5. Mecklenburg Warehouse planning project.

6. Western Maryland Railroad right-of-way planning study.

7. Business Plan.

The meeting will be open to the public. Any member of the public may file with the Commission a written statement concerning the matters to be discussed. Persons wishing further information concerning this meeting, or who wish to submit written statements, may contact Douglas D. Faris, Superintendent, C&O Canal National Historical Park, 1850 Dual Highway, Suite 100, Hagerstown, Maryland 21740.

Minutes of the meeting will be available for public inspection six (6) weeks after the meeting at park headquarters, Hagerstown, Maryland.

Dated: February 28, 2003.
Kevin Brandt,
Acting Superintendent, C&O Canal National Historical Park.

[FR Doc. 03-6518 Filed 3-18-03; 8:45 am]

BILLING CODE 4310-70-M